PEACE CORPS

Proposed Information Collection Requests

AGENCY: Peace Corps.

ACTION: Notice of public use form review request to the Office of Management and Budget (Renewal of OMB Control Number 0420-0005).

SUMMARY: Pursuant to the paperwork Reduction Act of 1981 (44 USC, Chapter 35), the Peace Corps has submitted to the Office of Management and Budget a request for approval of information collection, OMB Control Number 0420-0005, the Peace Corps Volunteer Application. This is a renewal of an active OMB Control Number. The purpose of this notice is to allow for public comments on whether the proposed collection of information is necessary for the proper performance of the functions of the Peace Corps, including whether the information will have practical use; the accuracy of the agency's estimate of the burden of the proposed collections information, including the validity of the methodology and assumptions used; ways to enhance the quality, utility and the clarity of the information to be collected; and, ways to minimize the burden of the collection of information on those who are to respond, including through the use of automated collection techniques, when appropriate, and other forms of information technology.

A copy of the proposed information collection form may be obtained from Ms. DeDe Dunevant, Office of Communications, Peace Corps, 1111 20th Street, NW, Room 8407, Washington, DC 20526. Ms. Dunevant can be contacted by telephone at 202-692-2205 or 800-424-8580 ext 2205. Comments on the form should also be addressed to the attention of Ms. Dunevant and should be received on or before October 19, 2001.

Information Collection Abstract

Title: Peace Corps Volunteer Application Form.

Need for and Use of This Information: This form is completed voluntarily by potential Peace Corps Volunteers in order to identify prospective applicants and process the applicants for Volunteer service. This information, which is gathered by paper copy and electronic on-line version, is used to determine qualifications and potential for placement of applicants, in fulfillment of the first goal of the Peace Corps as required by Congressional legislation and to enhance the Peace Corps Volunteer process.

Respondents: Potential Peace Corps Volunteers.

Respondent's Obligation to Reply: Voluntary.

Burden on the Public

a. Annual reporting burden: 240,000 hours.

b. Annual record keeping burden: 0 hours.

c. Estimated average burden per response: 8 hours.

d. Frequency of response: One time.

e. Estimated number of likely respondents: 30,000.

f. Estimated cost to respondents: $102.72.

This notice is issued in Washington, DC on August 10, 2001.
Doug Warnecke,
Acting, Chief Information Officer and Associate Director for Management.

[FR Doc. 01-20915 Filed 8-17-01; 8:45 am]

BILLING CODE 6051-01-M